SURFACE TRANSPORTATION BOARD

[Docket No. AB 1254X; Docket No. AB 1255X]

Winamac Southern Railway Company—Abandonment Exemption—in Kokomo, Howard County, Ind.; US Rail Holdings, LLC—Abandonment Exemption—in Kokomo, Howard County, Ind.

Winamac Southern Railway Company (WSRY) and US Rail Holdings, LLC (USRH) (collectively, Applicants), have jointly filed a verified notice of exemption under 49 CFR pt. 1152 subpart F—Exempt Abandonments for WSRY and USRH to abandon 2.38 miles of rail line, known as the Russiaville Line, between milepost 181.26, at the west right-of-way (ROW) line of Webster Street, and the end of the line at milepost 183.64, at the south ROW line of Defenbaugh Street, in Kokomo, Howard County, Ind. (the Line).¹ The Line traverses United States Postal Service Zip Code 46901.

¹ In 2009, Applicants were authorized to jointly acquire the Line in addition to another line, pursuant to an agreement with Central Railroad Company of Indianapolis, through the offer of financial assistance (OFA) process. See Cent. R.R. Co. of Ind.—Abandonment Exemption—in Howard Cty., Ind., AB 511 (Sub-No. 4X) (STB served June 11, 2009). Applicants state that the other rail line acquired through the OFA process remains under the joint ownership of Applicants and is not part of this proceeding.

Applicants have certified that: (1) No local traffic has moved over the Line for at least two years; (2) no overhead traffic has moved over the Line for at least two years and that overhead traffic, if there were any, could be rerouted over other lines; (3) no formal complaint filed by a user of rail service on the Line (or by a state or local government entity acting on behalf of such user) regarding cessation of service over the Line either is pending with the Surface Transportation Board (Board) or with any U.S. District Court or has been decided in favor of complainant within the two-year period; and (4) the requirements at 49 CFR 1105.7(c) (environmental report), 49 CFR 1105.11 (transmittal letter), 49 CFR 1105.12 (newspaper publication), and 49 CFR 1152.50(d)(1) (notice to governmental agencies) have been met.

As a condition to these exemptions, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, these exemptions will be effective on August 25, 2017, unless stayed pending reconsideration. Petitions to stay that do not involve environmental issues,² formal expressions of intent to file an OFA under 49 CFR 1152.27(c)(2),³ and trail use/rail banking requests under 49 CFR 1152.29 must be filed by August 4, 2017. Petitions to reopen or requests for public use conditions under 49 CFR 1152.28 must be filed by August 15, 2017, with the Surface Transportation Board, 395 E Street SW., Washington, DC 20423-0001.

² The Board will grant a stay if an informed decision on environmental issues (whether raised by a party or by the Board's Office of Environmental Analysis (OEA) in its independent investigation) cannot be made before the exemptions' effective date. See Exemption of Out-of-Serv. Rail Lines, 5 I.C.C.2d 377 (1989). Any request for a stay should be filed as soon as possible so that the Board may take appropriate action before the exemptions' effective date.

³ Each OFA must be accompanied by the filing fee, which is currently set at $1,700. See 49 CFR 1002.2(f)(25).

A copy of any petition filed with the Board should be sent to Applicants' representative: Thomas F. McFarland, Thomas F. McFarland, P.C., 208 South LaSalle Street, Suite 1666, Chicago, IL 60604.

If the verified notice contains false or misleading information, the exemptions are void ab initio.

Applicants have filed a combined environmental and historic report that addresses the effects, if any, of the abandonment on the environment and historic resources. OEA will issue an environmental assessment (EA) by July 31, 2017. Interested persons may obtain a copy of the EA by writing to OEA (Room 1100, Surface Transportation Board, Washington, DC 20423-0001) or by calling OEA at (202) 245-0305. Assistance for the hearing impaired is available through the Federal Information Relay Service (FIRS) at 1-800-877-8339. Comments on environmental and historic preservation matters must be filed within 15 days after the EA becomes available to the public.

Environmental, historic preservation, public use, or trail use/rail banking conditions will be imposed, where appropriate, in a subsequent decision.

Pursuant to the provisions of 49 CFR 1152.29(e)(2), Applicants shall file a notice of consummation with the Board, either jointly or individually, to signify that each has exercised the authority granted and fully abandoned the Line. If consummation has not been effected by Applicants' filing of a notice of consummation by July 26, 2018, and there are no legal or regulatory barriers to consummation, the authority to abandon will automatically expire.

Board decisions and notices are available on our Web site at WWW.STB.GOV.

Decided: July 21, 2017.
By the Board, Rachel D. Campbell, Director, Office of Proceedings.
Brendetta S. Jones,
Clearance Clerk.

[FR Doc. 2017-15677 Filed 7-25-17; 8:45 am]

BILLING CODE 4915-01-P